ENVIRONMENTAL PROTECTION AGENCY

[EPA-HQ-OPPT-2019-0470; FRL-10009-91]

Public Workshop; Laminated Products—Formaldehyde Emission Standards for Composite Wood Products

AGENCY: Environmental Protection Agency (EPA).

ACTION: Notice.

SUMMARY: EPA is announcing a public workshop to discuss the laminated product provisions and the rulemaking petition for exemption from the definition of hardwood plywood in the formaldehyde emission standards for composite wood products final rule of 2016. The workshop will aid with informing potential development of future guidance for petitioning EPA for an exemption under the 2016 final rule. The primary audience for this public workshop is Third Party Certifiers (TPCs), panel producers, and fabricators or laminated product producers who contract with TPCs to certify composite wood products under the 2016 final rule. This workshop is also open to the general public.

DATES: The workshop will be held on September 8, 2020 from 9:30 a.m. to 5:30 p.m. (EST).

To participate in the workshop, you must register online on or before August 31, 2020.

Written comments that participants would like to be considered during the workshop should be submitted on or before August 24, 2020. EPA will also accept written comments and materials submitted after the conclusion of the workshop until November 4, 2020.

To request accommodation of a disability, please contact the technical person listed under FOR FURTHER INFORMATON CONTACT, preferably at least 10 days prior to the workshop, to give EPA as much time as possible to process your request.

ADDRESSES: The workshop will be held remotely via a teleconference platform and does not have an in-person attendance option. To register to participate in the workshop, go to https://tscatitlevi.eventbrite.com. See Unit III. for information on public participation in the workshop.

Submit your written comments, identified by Docket Identification (ID) number EPA-HQ-OPPT-2019-0470, using the Federal eRulemaking Portal at http://www.regulations.gov. Follow the online instructions for submitting comments. Do not submit electronically any information you consider to be Confidential Business Information (CBI) or other information whose disclosure is restricted by statute.

Please note that due to the public health emergency the EPA Docket Center (EPA/DC) and Reading Room was closed to public visitors on March 31, 2020. Our EPA/DC staff will continue to provide customer service via email, phone, and webform. For further information on EPA/DC services, docket contact information and the current status of the EPA/DC and Reading Room, please visit https://www.epa.gov/dockets.

FOR FURTHER INFORMATION CONTACT: For technical information about the Technical Issues Workshop; Formaldehyde Emission Standards for Composite Wood Products workshop contact: Todd Coleman, National Programs Chemical Division (7404T), Office of Pollution Prevention and Toxics, Environmental Protection Agency, 1200 Pennsylvania Ave. NW, Washington, DC 20460-0001; telephone number: (202) 564-1208; email address: coleman.todd@epa.gov.

For workshop logistics or registration contact: Sarah Cox, National Program Chemicals Division (7404T), Office of Pollution Prevention and Toxics, Environmental Protection Agency, 1200 Pennsylvania Ave. NW, Washington, DC 20460-0001; telephone number: (202) 564-3961; email address: cox.sarah@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This public workshop is primarily directed to the TPCs, panel producers, and fabricators or laminated product producers who contract with TPCs to certify composite wood products under the formaldehyde emission standards for composite wood products final rule codified in 2016 at 40 CFR part 770. EPA is hosting the workshop to help inform potential development of future guidance to assist those seeking to petition the Agency through the provisions at 40 CFR 770.4(b), which ask EPA to initiate a rulemaking for additional exemptions for laminated products from the definition of hardwood plywood in the formaldehyde emission standards for composite wood products final rule. While the issue is of most relevance to laminated product producers, in general, importers, distributors and retailers who are affected by the formaldehyde emission standards for composite wood products final rule may also be interested in this workshop. Since other stakeholders may also be interested, the Agency has not attempted to describe all the specific entities that may be interested in the issues to be discussed at the public workshop.

B. How can I get copies of this document and other related information?

The docket for this action, identified by docket ID number EPA-HQ-OPPT-2019-0470, is available at http://www.regulations.gov. For assistance with the docket, and additional information about commenting, please go to http://www.epa.gov/dockets.

II. Background

The final rule, entitled “Formaldehyde Emission Standards for Composite Wood Products” and codified at 40 CFR part 770, published in the Federal Register of December 12, 2016 (81 FR 89674) (FRL-9949-90) and became effective on May 22, 2017 (82 FR 14324, March 21, 2017) (FRL-9960-28-OP). Since publication of the final rule, EPA received feedback from regulated stakeholders requesting guidance on the process at 40 CFR 770.4(b) for the laminated product rulemaking petition for exemption from the definition of hardwood plywood. In the Federal Register of May 24, 2018, EPA announced a public related to Technical Issues—Formaldehyde Emission Standards for Composite Wood Products (83 FR 24104) (FRL-9978-21), where the Agency stated its intent to address the issue of working with stakeholders, through an additional workshop, to inform potential development of future guidance on how one can petition the Agency for this exemption. Thus, EPA will host this public workshop to discuss what types of information a petitioner should consider providing the Agency to support a determination on a petition submitted under 40 CFR 770.4(b). The workshop will also discuss what a typical submittal process may look like.

The Agency's intent is for participants to actively engage in an open dialogue with EPA and other participants on the agenda topics and to provide supporting documentation (in advance or after the workshop) as appropriate for EPA's consideration. The Agency plans to record the workshop and will post a written transcript in the docket for this workshop during the comment period that follows the workshop.

The Agency is allowing the comment period on this public workshop to remain open until after the workshop to provide stakeholders and interested parties ample time to develop additional comments, compile data, studies, and/or reports that can aid EPA in considering the development of guidance for submitting and supporting a laminated product rulemaking petition under 40 CFR 770.4(b) for exemption from the definition of hardwood plywood. Should the Agency develop guidance related to the rulemaking petitions for exemption under 40 CFR 770.4(b), EPA will provide a draft for public comment and post such guidance on the Agency's website.

An agenda for the public workshop has been included in the docket for this workshop.

III. How can I request to participate in this workshop?

A. Registration

The workshop will only be accessible remotely (i.e., web conferencing) for registered participants. Participants will be provided information on how to connect to the workshop prior to its start that is sent to the email address participants provided when they registered for this workshop.

To register to attend the workshop and receive remote access, you must register online as described under ADDRESSES and by the date specified under DATES.

B. Required Registration Information

Attendees and participants will be offered the opportunity to speak and provide feedback during the workshop. To register for the workshop online, you must provide your full name, organization or affiliation, and contact information.

Authority: 15 U.S.C. 2697.

Dated: June 30, 2020.
Alexandra Dapolito Dunn,
Assistant Administrator, Office of Chemical Safety and Pollution Prevention.

[FR Doc. 2020-14515 Filed 7-6-20; 8:45 am]

BILLING CODE 6560-50-P